DEPARTMENT OF TRANSPORTATION

Federal Railroad Administration

Notice of Availability of a Supplemental Draft Environmental Impact Statement for the DesertXpress High-Speed Passenger Rail Project

AGENCY: Federal Railroad Administration (FRA), United States Department of Transportation (DOT).

ACTION: Notice.

SUMMARY: FRA is issuing this notice to advise the public that a Supplemental Draft EIS has been prepared for the DesertXpress High-Speed Passenger Train Project (Project). FRA is the lead agency for the environmental review process and has prepared the Supplemental Draft EIS consistent with the provisions of Section 102(2)(c) of the National Environmental Policy Act (NEPA) of 1969 (42 U.S.C. 4321 et seq.), the Counsel of Environmental Quality (CEQ) regulations implementing NEPA (40 CFR parts 1500 et seq.) and FRA's Procedures for Considering Environmental Impacts (64 FR 28545; May 26, 1999).

DesertXpress Enterprises Inc., the Project proponent, proposes to construct and operate a fully grade-separated, dedicated double-track, passenger-only railroad along an approximately 200-mile corridor, from Victorville, CA, to Las Vegas, NV. After publication of the Draft EIS and in response to substantive comments submitted by interested agencies and the public, the Project proponent proposed several project modifications and additions. After reviewing the proposed project modifications and additions, FRA determined a Supplemental Draft EIS describing the potential environmental effects of the modifications and additions was necessary to fulfill its responsibility under NEPA.

DATES: Written comments on the Supplemental Draft EIS for the DesertXpress Project should be provided to FRA on or before October 18 2010. Public hearings are scheduled on October 13 and October 14, 2010, at the times and dates listed in the Addresses Section below in Las Vegas, NV and Barstow, CA.

ADDRESSES: Written comments on the Supplemental Draft EIS should be sent to Ms. Wendy Messenger, Environmental Protection Specialist, Office of Railroad Policy and Development, ATTN: DesertXpress EIS, Federal Railroad Administration, U.S. Department of Transportation, 1200 New Jersey Avenue, SE., MS-20, Washington, DC 20590 or via e-mail with the subject line DesertXpress EIS to Wendy.Messenger@dot.gov. Comments may also be provided orally or in writing at the public hearings scheduled at the following locations:

• Las Vegas, NV, Wednesday, October 13, 2010, 5:30 to 8 p. m., Hampton Inn Tropicana, SW. Event Center B, 4975 Dean Martin Drive, Las Vegas, NV; and

• Barstow, CA, Thursday, October 14, 2010, 5:30 to 8 p.m., Lenwood Hampton Inn, Jackrabbit Room 1, 2710 Lenwood Road, Barstow, CA.

FOR FURTHER INFORMATION CONTACT: Ms. Wendy Messenger, Environmental Protection Specialist, Office of Railroad Policy and Development, Federal Railroad Administration, U.S. Department of Transportation, 1200 New Jersey Avenue, SE., MS-20, Washington, DC 20590 (telephone: 202-493-6396).

SUPPLEMENTARY INFORMATION: Following the March 18, 2009 publication of the Draft EIS on the Project, several project modifications and additions were proposed to address substantive comments received during public and agency review of the Draft EIS and to reduce or avoid significant environmental effects. After evaluating the proposed project modifications and additions, FRA determined, pursuant to 40 CFR 1502.9, that it was necessary to prepare a supplement to the Draft EIS analyzing the potential environmental impacts that might result from those modifications and additions. Therefore, in compliance with CEQ's regulations and FRA's Procedures for Considering Environmental Impacts, FRA, in cooperation with the Bureau of Land Management (BLM), Surface Transportation Board (STB), Federal Highway Administration (FHWA), and the National Park Service (NPS), and with the added participation of the California Department of Transportation (Caltrans) and the Nevada Department of Transportation (NDOT), prepared a Supplemental Draft EIS.

The Project would involve the construction and operation of an interstate high-speed passenger train system between Victorville, CA and Las Vegas, NV, along an approximately 200-mile corridor. The project proponent proposes to construct nearly the entire fully grade-separated, dedicated double-track, passenger-only railroad either in the median of, or immediately alongside, Interstate-15 (I-15).

The proposed project modifications and additions do not in any way change the underlying purpose of, or need for, the project. The need for high-speed passenger rail service arises from several factors, including high and increasing travel demand with limited increases in capacity on I-15, constraints to the expansion of air travel, and frequent highway vehicle accidents on the I-15 corridor. The DesertXpress high-speed passenger train is intended to provide reliable and safe passenger rail transportation using proven high-speed rail technology that would be a convenient alternative to automobile travel on I-15 or air travel to and from Las Vegas, and that would add transportation capacity along the I-15 corridor.

Consistent with the requirements of NEPA, the Supplemental Draft EIS evaluates the environmental effects of the proposed modifications and additions, which include a new Victorville passenger station option at Dale Evans Parkway, a rail alignment through the Barstow area following the I-15 freeway corridor from Lenwood through Yermo, CA, a new rail alignment through the Clark Mountains near the Mojave National Preserve, new sites for maintenance and operation facilities in unincorporated Clark County, NV, relocation of portions of the rail alignment in metropolitan Las Vegas from the immediate I-15 corridor to the Industrial Road/Dean Martin Drive corridor, and several alignment modifications to reduce or avoid environmental impacts, improve operating characteristics, or avoid conflicts with other planned projects.

Copies of both the Supplemental Draft EIS and Draft EIS are available online at FRA's Web site: http://www.fra.dot.gov; they are also available for viewing at the following locations near the planned rail system:

• Victorville City Library, 15011 Circle Drive, Victorville, CA 92395;

• Barstow Library, 304 East Buena Vista, Barstow, CA 92311;

• Clark County Library, 1401 E. Flamingo Road, Las Vegas, NV 89119; and

• Las Vegas Library, 833 Las Vegas Blvd. N., Las Vegas, NV 80101.

Issued in Washington, DC, on September 1, 2010.
Mark E. Yachmetz,
Associate Administrator for Railroad Policy & Development.

[FR Doc. 2010-22246 Filed 9-7-10; 8:45 am]

BILLING CODE 4910-06-P